DEPARTMENT OF THE INTERIOR

Office of Surface Mining Reclamation and Enforcement

[S1D1S SS08011000 SX066A000 67F 134S180110; S2D2S SS08011000 SX066A00 33F 13xs501520]

Notice of Proposed Information Collection; Request for Comments for 1029-0059

AGENCY: Office of Surface Mining Reclamation and Enforcement, Interior.

ACTION: Notice and request for comments.

SUMMARY: In compliance with the Paperwork Reduction Act of 1995, the Office of Surface Mining Reclamation and Enforcement (OSMRE) is announcing its intention to request approval for the collections of information for 30 CFR part 735—Grants for Program Development and Administration and Enforcement, 30 CFR part 885—Grants for Certified States and Indian Tribes, and 30 CFR part 886—State and Tribal Reclamation Grants. This collection request has been forwarded to the Office of Management and Budget (OMB) for review and approval. The information collection request describes the nature of the information collection and the expected burden and cost.

DATES: OMB has up to 60 days to approve or disapprove the information collections but may respond after 30 days. Therefore, public comments should be submitted to OMB by June 5, 2015, in order to be assured of consideration.

ADDRESSES: Please send comments to the Office of Information and Regulatory Affairs, Office of Management and Budget, Attention: Department of the Interior Desk Officer, via email to OIRA_Submission@omb.eop.gov, or by facsimile to (202) 395-5806. Also, please send a copy of your comments to John Trelease, Office of Surface Mining Reclamation and Enforcement, 1951 Constitution Ave. NW., Room 203—SIB, Washington, DC 20240, or by email to jtrelease@osmre.gov.

FOR FURTHER INFORMATION CONTACT: To receive a copy of the information collection request, contact John Trelease at (202) 208-2783, or electronically at jtrelease@osmre.gov. You may also review this collection on the Internet by going to http://www.reginfo.gov (Information Collection Review, Currently Under Review, Agency is Department of the Interior, DOI-OSMRE).

SUPPLEMENTARY INFORMATION: The OMB regulations at 5 CFR 1320, which implement provisions of the Paperwork Reduction Act of 1995 (Pub. L. 104-13), require that interested members of the public and affected agencies have an opportunity to comment on information collection and recordkeeping activities [see 5 CFR 1320.8(d)]. OSMRE has submitted a request to OMB to renew its approval of the collections of information contained in 30 CFR part 735—Grants for Program Development and Administration and Enforcement, 30 CFR part 886—State and Tribal Reclamation Grants, and 30 CFR part 885—Grants for Certified States and Indian Tribes. OSMRE is requesting a 3-year term of approval for each information collection activity.

An agency may not conduct or sponsor, and a person is not required to respond to, a collection of information unless it displays a currently valid OMB control number. Responses are required to receive a benefit of grant funding. The OMB control number for 30 CFR parts 735, 885, 886 and the corresponding forms OSM-47, OSM-49, and OSM 51 that require grant submittals are currently approved under OMB control number 1029-0059.

As required under 5 CFR 1320.8(d), a Federal Register notice soliciting comments on this collection of information was published on February 19, 2015 (80 FR 8899). No comments were received. This notice provides the public with an additional 30 days in which to comment on the following information collection activity:

Title: 30 CFR parts 735, 885 and 886—Grants to States and Tribes.

OMB Control Number: 1029-0059.

Summary: State and Tribal reclamation and regulatory authorities are requested to provide specific budget and program information as part of the grant application and reporting processes authorized by the Surface Mining Control and Reclamation Act.

Bureau Form Numbers: OSM-47, OSM-49 and OSM-51.

Frequency of Collection: Once and annually.

Description of Respondents: State and Tribal reclamation and regulatory authorities.

Total Annual Responses: 140.

Total Annual Burden Hours: 918 hours.

Total Annual Non-Wage Cost: $0.

Send comments on the need for the collection of information for the performance of the functions of the agency; the accuracy of the agency's burden estimates; ways to enhance the quality, utility and clarity of the information collection; and ways to minimize the information collection burden on respondents, such as use of automated means of collection of the information, to the addresses listed in ADDRESSES. Please refer to OMB control number 1029-0059 in your correspondence.

Before including your address, phone number, email address, or other personal identifying information in your comment, you should be aware that your entire comment—including your personal identifying information—may be made publicly available at any time. While you can ask us in your comment to withhold your personal identifying information from public review, we cannot guarantee that we will be able to do so.

Dated: May 1, 2015.
Dennis G. Rice,
Acting Chief, Division of Regulatory Support.

[FR Doc. 2015-10582 Filed 5-5-15; 8:45 am]

BILLING CODE 4310-05-P